DEPARTMENT OF ENERGY

Federal Energy Regulatory Commission

Combined Notice of Filings #1

Take notice that the Commission received the following electric corporate filings:

Docket Numbers: EC14-26-000.

Applicants: Richland-Stryker Generation LLC.

Description: Application for Authorization of Transaction under Section 203 of Richland-Stryker Generation LLC.

Filed Date: 11/8/13.

Accession Number: 20131108-5168.

Comments Due: 5 p.m. ET 11/29/13.

Take notice that the Commission received the following exempt wholesale generator filings:

Docket Numbers: EG14-13-000.

Applicants: Lakeland Solar Energy LLC.

Description: Notice of Self-Certification of Exempt Wholesale Status of Lakeland Solar Energy LLC.

Filed Date: 11/12/13.

Accession Number: 20131112-5172.

Comments Due: 5 p.m. ET 12/3/13.

Take notice that the Commission received the following electric rate filings:

Docket Numbers: ER10-1141-002; ER10-1139-002; ER10-1151-005; ER10-1103-002; ER10-1119-002; ER10-1123-002; ER10-3247-006.

Applicants: Ameren Energy Generating Company, Ameren Energy Marketing Company, AmerenEnergy Resources Generating Company, AmerenEnergy Medina Valley Cogen, L.L.C., Ameren Illinois Company, Union Electric Company, Electric Energy Inc.

Description: Notice of change in status of the Ameren Entities.

Filed Date: 11/08/2013.

Accession Number: 20131108-5166.

Comments Due: 5 p.m. ET 11/29/13.

Docket Numbers: ER10-1469-002; ER10-1467-002; ER10-1468-002; ER10-1473-002; ER10-1478-004; ER10-1451-002; ER10-1474-002; ER10-2688-005; ER10-2689-005; ER10-2728-004; ER10-2729-004; ER10-1459-006; ER13-785-001; ER13-713-001; ER10-1453-002.

Applicants: Allegheny Energy Supply Company, LLC, Buchanan Generation, LLC, Cleveland Electric Illuminating Company, FirstEnergy Generation Mansfield Unit 1, FirstEnergy Generation, LLC, FirstEnergy Nuclear Generation, LLC, FirstEnergy Solutions Corporation, Green Valley Hydro, LLC, Jersey Central Power & Light, Metropolitan Edison Company, Monongahela Power Company, Ohio Edison Company, Pennsylvania Electric Company, Pennsylvania Power Company, Potomac Edison Company, Toledo Edison Company, West Penn Power Company, The Cleveland Electric Illuminating Company.

Description: Notice of change in status of the FirstEnergy Companies.

Filed Date: 11/8/13.

Accession Number: 20131108-5165.

Comments Due: 5 p.m. ET 11/29/13.

Docket Numbers: ER10-2835-003.

Applicants: Google Energy LLC.

Description: Notice of Change in Status of Google Energy LLC.

Filed Date: 11/12/13.

Accession Number: 20131112-5219.

Comments Due: 5 p.m. ET 12/3/13.

Docket Numbers: ER12-1179-012.

Applicants: Southwest Power Pool, Inc.

Description: Southwest Power Pool, Inc. submits tariff filing per 35: Integrated Marketplace Second Compliance Filing to be effective 3/1/2014.

Filed Date: 11/12/13.

Accession Number: 20131112-5011.

Comments Due: 5 p.m. ET 12/3/13.

Docket Numbers: ER13-2336-001.

Applicants: Portland General Electric Company.

Description: Errata to Order 764 Compliance Filing to be effective 11/12/2013.

Filed Date: 11/12/13.

Accession Number: 20131112-5198.

Comments Due: 5 p.m. ET 12/3/13.

Docket Numbers: ER14-25-000.

Applicants: Prairie Breeze Wind Energy LLC.

Description: Second Supplement to October 4, 2013 Market-Based Rate Application.

Filed Date: 10/31/13.

Accession Number: 20131031-5055.

Comments Due: 5 p.m. ET 11/21/13.

Docket Numbers: ER14-357-000.

Applicants: Delaware City Refining Company LLC.

Description: Rate Schedule Change Other Than Rate Increase to be effective 1/1/2014.

Filed Date: 11/8/13.

Accession Number: 20131108-5130.

Comments Due: 5 p.m. ET 11/29/13.

Docket Numbers: ER14-358-000.

Applicants: PJM Interconnection, L.L.C.

Description: Queue Position X3-070; Original Service Agreement No. 3665 to be effective 10/9/2013.

Filed Date: 11/8/13.

Accession Number: 20131108-5149.

Comments Due: 5 p.m. ET 11/29/13.

Docket Numbers: ER14-359-000.

Applicants: Occidental Chemical Corporation.

Description: Revised Market-Based Rate Tariff to be effective 11/9/2013.

Filed Date: 11/8/13.

Accession Number: 20131108-5150.

Comments Due: 5 p.m. ET 11/29/13.

Docket Numbers: ER14-361-000.

Applicants: Florida Power & Light Company.

Description: FPL NITSA No. 266 Reallocation of Trans Credits to be effective 1/1/2014.

Filed Date: 11/8/13.

Accession Number: 20131108-5161.

Comments Due: 5 p.m. ET 11/29/13.

Docket Numbers: ER14-362-000.

Applicants: Puget Sound Energy, Inc.

Description: Order No. 764 Compliance Filing to be effective 11/12/2013.

Filed Date: 11/12/13.

Accession Number: 20131112-5006.

Comments Due: 5 p.m. ET 12/3/13.

Docket Numbers: ER14-363-000.

Applicants: South Carolina Electric & Gas Company.

Description: Compliance filing uploaded Section 14 to be effective 8/31/2010.

Filed Date: 11/12/13.

Accession Number: 20131112-5009.

Comments Due: 5 p.m. ET 12/3/13.

Docket Numbers: ER14-364-000.

Applicants: Blue Sky West, LLC.

Description: Request for Limited Waiver and Expedited Action of Blue Sky West, LLC.

Filed Date: 11/8/13.

Accession Number: 20131108-5172.

Comments Due: 5 p.m. ET 11/29/13.

Docket Numbers: ER14-365-000.

Applicants: Tucson Electric Power Company.

Description: TEP Order No. 764 Compliance Filing to be effective 1/13/2014.

Filed Date: 11/12/13.

Accession Number: 20131112-5113.

Comments Due: 5 p.m. ET 12/3/13.

Docket Numbers: ER14-366-000.

Applicants: UNS Electric, Inc.

Description: UNSE Order No. 764 Compliance Filing to be effective 1/13/2014.

Filed Date: 11/12/13.

Accession Number: 20131112-5114.

Comments Due: 5 p.m. ET 12/3/13.

Docket Numbers: ER14-367-000.

Applicants: South Carolina Electric & Gas Company.

Description: OATT Order No. 764 Compliance Filing to be effective 12/31/9998.

Filed Date: 11/12/13.

Accession Number: 20131112-5138.

Comments Due: 5 p.m. ET 12/3/13.

Docket Numbers: ER14-368-000.

Applicants: Alabama Power Company.

Description: Order No. 764 (Variable Energy Resources) Compliance Filing to be effective 11/12/2013.

Filed Date: 11/12/13.

Accession Number: 20131112-5155.

Comments Due: 5 p.m. ET 12/3/13.

Docket Numbers: ER14-369-000.

Applicants: Entergy Louisiana, LLC.

Description: E-RSC Rate Schedule to be effective 12/19/2013.

Filed Date: 11/12/13.

Accession Number: 20131112-5168.

Comments Due: 5 p.m. ET 12/3/13.

Docket Numbers: ER14-370-000.

Applicants: PJM Interconnection, L.L.C.

Description: Queue Position Y3-047; Original Service Agreement No. 3666 to be effective 10/10/2013.

Filed Date: 11/12/13.

Accession Number: 20131112-5190.

Comments Due: 5 p.m. ET 12/3/13.

Docket Numbers: ER14-371-000.

Applicants: El Paso Electric Company.

Description: OATT Order No. 764 Compliance Filing to be effective 1/11/2014.

Filed Date: 11/12/13.

Accession Number: 20131112-5205.

Comments Due: 5 p.m. ET 12/3/13.

Docket Numbers: ER14-372-000.

Applicants: PJM Interconnection, L.L.C.

Description: Queue Position # I02-W73 ? First Revised Service Agreement No. 1492 to be effective 5/11/2006.

Filed Date: 11/12/13.

Accession Number: 20131112-5218.

Comments Due: 5 p.m. ET 12/3/13.

Docket Numbers: ER14-373-000.

Applicants: PJM Interconnection, L.L.C.

Description: Revisions to the PJM OATT and OA re Parameter Limited Scheduling to be effective 2/27/2014.

Filed Date: 11/12/13.

Accession Number: 20131112-5223.

Comments Due: 5 p.m. ET 12/3/13.

Docket Numbers: ER14-374-000.

Applicants: Duke Energy Carolinas, LLC.

Description: OATT Order No. 764 Compliance Filing to be effective 12/31/9998.

Filed Date: 11/12/13.

Accession Number: 20131112-5242.

Comments Due: 5 p.m. ET 12/3/13.

Docket Numbers: ER14-375-000.

Applicants: ISO New England Inc., New England Power Pool Participants Committee.

Description: OATT Order No. 764 Compliance Filing to be effective 11/13/2013.

Filed Date: 11/12/13.

Accession Number: 20131112-5248.

Comments Due: 5 p.m. ET 12/3/13.

Docket Numbers: ER14-376-000.

Applicants: MATL LLP.

Description: Order 764 Compliance to be effective 11/12/2013.

Filed Date: 11/12/13.

Accession Number: 20131112-5249.

Comments Due: 5 p.m. ET 12/3/13.

Take notice that the Commission received the following public utility holding company filings:

Docket Numbers: PH14-2-000.

Applicants: Starwood Energy Group Global, L.L.C.

Description: Notice of Material Change in Facts of Starwood Energy Group Global, L.L.C.

Filed Date: 11/12/13.

Accession Number: 20131112-5102.

Comments Due: 5 p.m. ET 12/3/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 12, 2013.
Nathaniel J. Davis, Sr.,
Deputy Secretary.

[FR Doc. 2013-28013 Filed 11-21-13; 8:45 am]

BILLING CODE 6717-01-P